DEPARTMENT OF ENERGY

Federal Energy Regulatory Commission

[Docket No. EL00-96-000]

Old Dominion Electric Cooperative v. PJM Interconnection, L.L.C. and Conectiv; Notice of Complaint

August 4, 2000.

Take notice that on August 3, 2000, Old Dominion Electric Cooperative (Old Dominion) filed a complaint against PJM Interconnection, L.L.C. (PJM) and Conectiv requesting emergency relief and fast track processing. Old Dominion alleges that the congestion charges paid by Old Dominion for network transmission service from PJM are unjust, unreasonable, unduly discriminatory and unduly preferential. Old Dominion requests emergency interim relief, pending a long-term solution, in the form of directing PJM to exclude from the congestion price calculation certain low-voltage facilities that Conectiv re-designated for PJM operation and control in July of 1999 or, in the alternative, directing PJM to provide Old Dominion its load ratio share of fixed transmission rights for the southern Delmarva Peninsula.

Any person desiring to be heard or to protest this filing should file a motion to intervene or protest with the Federal Energy Regulatory Commission, 888 First Street, NE. Washington, DC 20426, in accordance with Rules 211 and 214 of the Commission's Rules of Practice and Procedure (18 CFR 385.211 and 385.214). All such motions or protests must be filed on or before August 15, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call (202) 202 2222 for assistance). Answers to the complaint shall also be due on or before August 15, 2000.

David P. Boergers,
Secretary.

[FR Doc. 00-20194 Filed 8-9-00; 8:45 am]

BILLING CODE 6717-01-M